DEPARTMENT OF THE INTERIOR

National Park Service

[N6411; NPS-WASO-NAGPRA-NPS0040805; PPWOCRADN0-PCU00RP14.R50000]

Notice of Intended Disposition: U.S. Department of the Interior, Bureau of Land Management, Oregon/Washington State Office, Spokane District Office, Wenatchee Field Office, Wenatchee, WA

AGENCY: National Park Service, Interior.

ACTION: Notice.

SUMMARY: In accordance with the Native American Graves Protection and Repatriation Act (NAGPRA), the U.S. Department of the Interior, Bureau of Land Management, OR/WA State Office, Wenatchee Field Office (BLM Wenatchee Field Office), intends to carry out the disposition of human remains and associated funerary objects removed from Federal or Tribal lands to the lineal descendants, Indian Tribe, or Native Hawaiian organization with priority for disposition in this notice.

DATES: Disposition of the human remains and associated funerary objects in this notice may occur on or after September 15, 2025. If no claim for disposition is received by August 14, 2026, the human remains and associated funerary objects in this notice will become unclaimed human remains and associated funerary objects.

ADDRESSES: Send written requests for repatriation of the human remains and associated funerary objects to Curtis J. Bryan, Wenatchee Field Manager, U.S. Department of the Interior, Bureau of Land Management, 915 Walla Walla Ave., Wenatchee, WA 98801, email cbryan@blm.gov.

SUPPLEMENTARY INFORMATION: This notice is published as part of the National Park Service's administrative responsibilities under NAGPRA. The determinations in this notice are the sole responsibility of the BLM Wenatchee Field Office and additional information on the human remains and associated funerary objects in this notice, including the results of consultation, can be found in the related records. The National Park Service is not responsible for the identifications in this notice.

Abstract of Information Available

Based on the information available, human remains representing at least one individual have been reasonably identified. The one associated funerary object is a stone pipe. The individual is represented by a cranium discovered by the public and reported to the BLM. The cranium was discovered along State Route 821, adjacent to the Yakima River on BLM lands in Kittitas County, Washington. Upon revisiting the site after the notification of the discovery of the cranium, the stone pipe was discovered.

Determinations

The BLM Wenatchee Field Office has determined that:

• The human remains described in this notice represent the physical remains of one individual of Native American ancestry.

• The one object described in this notice is reasonably believed to have been placed intentionally with or near individual human remains at the time of death or later as part of the death rite or ceremony.

• The Confederated Tribes and Bands of the Yakama Nation and the Confederated Tribes of the Colville Reservation have priority for disposition of the human remains and associated funerary object described in this notice.

Claims for Disposition

Written claims for disposition of the human remains and associated funerary objects in this notice must be sent to the appropriate official identified in this notice under ADDRESSES. If no claim for disposition is received by August 14, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after September 15, 2025. If competing claims for disposition are received, the BLM Wenatchee Field Office must determine the most appropriate claimant prior to disposition. Requests for joint disposition of the human remains and associated funerary objects are considered a single request and not competing requests. The BLM Wenatchee Field Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 31, 2025.
Melanie O'Brien,
Manager, National NAGPRA Program.

[FR Doc. 2025-15401 Filed 8-13-25; 8:45 am]

BILLING CODE 4312-52-P